ENVIRONMENTAL PROTECTION AGENCY

[EPA-R01-OAR-2008-0117; A-1-FRL-9267-1]

Status of Motor Vehicle Budgets in Submitted State Implementation Plan for Transportation Conformity Purposes; Connecticut; Notice of Withdrawal of Adequacy of Motor Vehicle Emissions Budgets

AGENCY: Environmental Protection Agency (EPA).

ACTION: Notice of withdrawal of adequacy.

SUMMARY: EPA is notifying the public that EPA has withdrawn its previous adequacy finding on the 2012 motor vehicle emission budgets (MVEBs) for Connecticut's two 8-hour ozone nonattainment areas. EPA has withdrawn the adequacy finding because Connecticut Department of Environmental Protection (CT DEP) withdrew its 2012 motor vehicle emission budgets from its eight-hour ozone attainment demonstration SIP for both ozone nonattainment areas. As a result of our finding, Connecticut can not use these 2012 motor vehicle emission budgets for future conformity determinations.

DATES: This finding is effective March 2, 2011.

FOR FURTHER INFORMATION CONTACT: Donald O. Cooke, Environmental Scientist, Air Quality Planning Unit, U.S. Environmental Protection Agency, EPA New England Regional Office, Five Post Office Square, Suite 100 (CAQ), Boston, MA 02109-3912, (617) 918-1668, cooke.donald@epa.gov.

SUPPLEMENTARY INFORMATION: Throughout this document, whenever “we,” “us” or “our” is used, we mean EPA.

Today's action is simply an announcement of a finding that we have already made.

On February 1, 2008, Connecticut submitted 2008, 2009, and 2012 summer day volatile organic compound (VOC) and nitrogen oxides (NOx) MVEBs for the Connecticut portion of the New York-Northern New Jersey-Long Island, NY-NJ-CT (Southwest Connecticut) 8-hour ozone nonattainment area and for the Greater Connecticut 8-hour ozone nonattainment area. These MVEBs were submitted to EPA as part of the 8-hour ozone attainment demonstrations and reasonable further progress plans for these areas. Although not required by the Clean Air Act or EPA regulation, Connecticut included the 2012 budgets in its ozone attainment demonstrations based on uncertainty as to whether attainment would be met by the applicable June 15, 2010 attainment date for the two nonattainment areas. EPA found Connecticut's 2008, 2009, and 2012 MVEBs adequate for transportation conformity purposes. See 73 FR 33428; June 12, 2008.

On August 23, 2010, CT DEP withdrew the 2012 MVEBs from its 8-hour ozone attainment demonstration SIP for both ozone nonattainment areas. At that time, CT DEP also requested that EPA withdraw the adequacy findings for the 2012 MVEBs, since both ozone nonattainment areas have monitored air quality data demonstrating attainment of the 1997 8-hour ozone National Ambient Air Quality Standard, and the 2012 MVEBs are no longer necessary to ensure attainment.¹

¹ EPA has determined that the Greater Connecticut area has attained the 1997 8-hour ozone standard. See 75 FR 53219; August 31, 2010. EPA has not yet taken action regarding the Southwest Connecticut area.

Connecticut's request to withdraw the 2012 MVEBs was announced on EPA's conformity Web site, and received no comments. (See http://www.epa.gov/otaq/stateresources/transconf/adequacy.htm. Once there, click on “What SIP submissions are currently under EPA adequacy review?”)

On December 30, 2010, EPA sent a letter to the CT DEP withdrawing our previous adequacy finding on the 2012 MVEBs for the Southwest Connecticut and the Greater Connecticut 8-hour ozone nonattainment areas.

The 2012 MVEBs are withdrawn for transportation conformity purposes. However, the 2008 (reasonable further progress) MVEBs and the 2009 (attainment) MVEBs that were previously deemed adequate, remain adequate for transportation conformity purposes.

Authority: 42 U.S.C. 7401-7671 q.

Dated: February 1, 2011.
Ira W. Leighton,
Acting Regional Administrator, EPA New England.

[FR Doc. 2011-3385 Filed 2-14-11; 8:45 am]

BILLING CODE 6560-50-P